DEPARTMENT OF STATE

[Public Notice 3900]

Office of International Energy and Commodities Policy; Notice of Receipt of Application for a Presidential Permit for Pipeline Facilities To Be Constructed and Maintained on the Border of the United States

AGENCY: Department of State.

Notice is hereby given that the Department of State has received an application from Reef International, L.L.C. (Reef) for a Presidential permit, pursuant to Executive Order 11423 of August 16, 1968, as amended by Executive Order 12847 of May 17, 1993, authorizing the construction, connection, operation, and maintenance at the U.S.-Mexican border at Eagle Pass, Texas of a liquid pipeline carrying liquefied petroleum gas, including propane and butane, and related facilities.

Reef is a limited liability corporation organized and existing under the laws of the State of Texas and with its principal office located in Corpus Christi, Texas. The proposed new 6-inch diameter pipeline would originate at a proposed new transfer and blending station in Eagle Pass, Texas and cover approximately 5 miles, crossing under the Rio Grande River and terminating at a proposed new storage and unloading station in Coahuila, Mexico approximately 1,000 feet from the International Boundary. It is anticipated that initial deliveries of the propane/butane mixture will be approximately 500,000 GPD, increasing to approximately 2,000,000 GPD in two years.

As required by E.O. 11423, the Department of State is circulating this application to concerned agencies for comment.

DATES: Interested parties are invited to submit, in duplicate, comments relative to this proposal on or before March 4, 2002, to James Dudley, Office of International Energy and Commodities Policy, Department of State, Washington, DC 20520. The application and related documents that are part of the record to be considered by the Department of State in connection with this application are available for inspection in the Office of International Energy and Commodities Policy during normal business hours.

FOR FURTHER INFORMATION CONTACT: James Dudley, Office of International Energy and Commodities Policy, Department of State, Washington, DC 20520; or by telephone at (202) 647-2857; or by fax at (202) 647-4037.

Dated: January 25, 2002.
Stephen J. Gallogly,
Director, Office of International Energy and Commodities Policy.

[FR Doc. 02-2419 Filed 1-30-02; 8:45 am]

BILLING CODE 4710-07-P